FARM CREDIT SYSTEM INSURANCE CORPORATION

Farm Credit System Insurance Corporation Board; Regular Meeting

SUMMARY: Notice is hereby given of the regular meeting of the Farm Credit System Insurance Corporation Board (Board).

DATE AND TIME: The meeting of the Board will be held at the offices of the Farm Credit Administration in McLean, Virginia, on September 22, 2005, from 9 a.m. until such time as the Board concludes its business.

FOR FURTHER INFORMATION CONTACT: Jeanette C. Brinkley, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available), and parts will be closed to the public. In order to increase the accessibility to Board meetings, persons requiring assistance should make arrangements in advance. The matters to be considered at the meeting are:

Closed Session

• Report on System Performance

Open Session

A. Approval of Minutes

• June 23, 2005 (Regular Meeting)

B. Reports

• Financials

• Report on Insured Obligations

• Quarterly Report on Annual Performance Plan

C. New Business

• Review of Insurance Premium Rates

—Rate for June to December 2005

—Planning Range for 2006

• Proposed 2006 and 2007 Budgets

• Annual Performance Plan for 2006-2007

Dated: September 13, 2005.
Jeanette C. Brinkley,
Secretary, Farm Credit System Insurance Corporation Board.

[FR Doc. 05-18609 Filed 9-19-05; 8:45 am]

BILLING CODE 6710-01-P